DEPARTMENT OF ENERGY

Federal Energy Regulatory Commission

[Project No. 12451-001, Minnesota]

SAF Hydroelectric Company, LLC; Notice of Availability of Environmental Assessment

April 6, 2005.

In accordance with the National Environmental Policy Act of 1969 and the Federal Energy Regulatory Commission's (Commission) regulations, 18 CFR part 380 (FERC Order No. 486 and 52 FR 47,897) the Office of Energy Projects Staff (staff) reviewed the application for an original license for the Lower St. Anthony Falls Hydroelectric Project, located on the Mississippi River in the city of Minneapolis in Hennepin County, Minnesota, and prepared an environmental assessment (EA) for the project. The project would occupy 2.26 acres of Federal lands owned by the U.S. Army Corps of Engineers (Corps).

In this EA, the staff analyzes the potential environmental effects of the proposed project and concludes that licensing the project, with staff's recommended measures, would not constitute a major Federal action significantly affecting the quality of the human environment.

A copy of the EA and application is available for review at the Commission in the Public Reference Room, or may be viewed on the Commission's Web site at http://www.ferc.gov using the “e-Library” link. Enter the docket number excluding the last three digits in the docket number field to access the document. For assistance, contact FERC Online Support at FERCOnlineSupport@ferc.gov or toll-free at 1-866-208-3676, or for TTY, 202-502-8659.

Any comments should be filed within 30 days from the date of this notice and should be addressed to Magalie R. Salas, Secretary, Federal Energy Regulatory Commission, 888 First Street, NE., Washington, DC 20426. Please affix “Lower St. Anthony Falls Project, P-12451” to all comments. For further information, please contact Monte TerHaar at (202) 502-6035 or at monte.terhaar@ferc.gov.

Comments may be filed electronically via the Internet in lieu of paper. See 18 CFR 385.2001(a)(1)(iii) and the instructions on the Commission's Web site at http://www.ferc.gov under the “e-Filing” link. The Commission strongly encourages electronic filings.

Linda Mitry,
Deputy Secretary.

[FR Doc. E5-1686 Filed 4-11-05; 8:45 am]

BILLING CODE 6717-01-P